DEPARTMENT OF ENERGY

Federal Energy Regulatory Commission

[Docket Nos. ER04-912-000, ER04-917-000]

XL Weather and Energy, Inc., XL Trading Partners America LLC; Notice of Filing

June 9, 2004.

Take notice that on May 28, 2004 XL Weather & Energy, Inc. (XL Weather) and XL Trading Partners America LLC (XL Trading America) tendered for filing Notices of Cancellation for XL Weather's FERC Electric Rate Schedule No. 1, originally filed in Docket No. ER02-2610 and amended in Docket No. ER03-330; and XL Trading America's FERC Electric Rate Schedule No. 1, originally filed in Docket No. ER04-350. XL Weather and XL Trading Partners state that this filing is being made to reflect the fact that no business is being transacted under either rate authority. XL Weather and XL Trading America request an effective date of 60 days after the date of filing, or earlier if the Commission so chooses.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: June 18, 2004.

Linda Mitry,
Acting Secretary.

[FR Doc. E4-1355 Filed 6-17-04; 8:45 am]

BILLING CODE 6717-01-P